DEPARTMENT OF HOMELAND SECURITY

Coast Guard

33 CFR Parts 62, 66, 67, and 72

[USCG-2001-10714]

RIN 1625-AA34 (Formerly RIN 2115-AG25)

Update of Rules on Aids to Navigation Affecting Buoys, Sound Signals, International Rules at Sea, Communications Procedures, and Large Navigational Buoys

AGENCY: Coast Guard, DHS.

ACTION: Notice of proposed rulemaking.

SUMMARY: The Coast Guard proposes to revise its aids to navigation and maritime information regulations by updating technical information concerning buoys, sound signals, international rules at sea, communications procedures, and large navigational buoys, and by rewriting some regulations to make them clearer and gender-neutral. The proposed changes would update existing rules to reflect current practices and make them easier to understand.

DATES: Comments and related material must reach the Docket Management Facility on or before August 12, 2003.

ADDRESSES: To make sure that your comments and related material are not entered more than once in the docket, please submit them by only one of the following means:

(1) By mail to the Docket Management Facility (USCG-2001-10714), U.S. Department of Transportation, room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web site for the Docket Management System at http://dms.dot.gov.

The Docket Management Facility maintains the public docket for this rulemaking. Comments and material received from the public, as well as documents mentioned in this preamble as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

FOR FURTHER INFORMATION CONTACT: If you have questions on this proposed rule, contact Mr. Dan Andrusiak, Project Manager, Program Management Division, Office of Short-Range Aids to Navigation (G-OPN), Coast Guard, telephone 202-267-0327 (email: dandrusiak@comdt.uscg.mil).

If you have questions on viewing or submitting material to the docket, call Ms. Dorothy Beard, Chief, Dockets, Department of Transportation, telephone 202-366-5149.

SUPPLEMENTARY INFORMATION:

Request for Comments

We encourage you to participate in this rulemaking by submitting comments and related material. If you do so, please include your name and address, identify the docket number for this rulemaking (USCG-2001-10714), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know that they reached the Facility, please enclose a stamped, self-addressed postcard or envelope. We will consider all comments and material received during the comment period. We may change this proposed rule in view of them.

Public Meeting

We do not now plan to hold a public meeting. But you may submit a request for one to the Docket Management Facility at the address under ADDRESSES explaining why one would be beneficial. If we determine that one would aid this rulemaking, we will hold one at a time and place announced by a later notice in the Federal Register.

Background and Purpose

The Coast Guard's Office of Short-Range Aids to Navigation frequently reviews the rules on Aids to Navigation. During our most recent review, we found that many rules do not reflect current technologies and practices. For example, what we formerly called “fog signals,” we now call “sound signals.” Also, we want to inform users that certain safety information, such as “Notice to Mariners” can now be found on the World Wide Web. Therefore, the Assistant Commandant for Operations proposes to update our aids to navigation rules and to eliminate any ambiguous or confusing language in them.

Discussion of Proposed Rule

The regulations we propose to revise are in 33 CFR parts 62, 66, 67 and 72. Our discussion of our proposed revisions are presented below under the four corresponding subject area headings: United States Aids to Navigation System, Private Aids to Navigation, Aids to Navigation on Artificial Islands and Fixed Structures, and Marine Information.

United States Aids to Navigation System

Large navigational buoys. We propose to remove § 62.39 because the Coast Guard no longer uses the large navigational buoys described in that section. We now use the Differential Global Positioning System (DGPS) for navigational assistance.

Maritime radiobeacon system. We propose to remove subpart C (Maritime Radiobeacons) of 33 CFR part 62. The sections in it, §§ 62.55, 62.57, 62.59, and 62.61, describe a radiobeacon system that has been replaced by DGPS.

Procedures for reporting defects and discrepancies. We propose to revise § 62.65(c)(2) by removing the last sentence that allows the use of collect calls. Because there are so many ways to reach the Coast Guard, this collect call option is no longer necessary.

Private Aids to Navigation

Application procedure. In § 66.01-5(g) we propose to remove the term “fog signals” and add, in its place, the term “sound signals” to reflect current usage. These signals alert operators to many environmental conditions besides fog that reduce visibility—for example, mist, rain, falling snow, smoke, and dust.

State waters for private aids to navigation; designations; revisions, and revocations. We propose to make the language in § 66.05-10 gender-neutral.

Change and modification of State aids to navigation. We propose to make the language in § 66.05-25 gender-neutral. We also propose to remove the word “preferably” to give a definitive deadline for the State Administrator to inform the District Commander of the need for a change in the State aids to navigation.

Notice to Mariners. We propose to make § 66.05-30 gender-neutral.

Designation of navigable waters as State waters for private aids to navigation. In § 66.05-100(e), for clarity, we propose to change the reference to “Each navigable water” to simply “Navigable waters”.

Uniform State waterway aids to navigation. In § 66.10-15, we propose to make paragraphs (b), (c), (e)(1), and (e)(3) gender-neutral. And we propose to remove the editorial note for § 66.10-15. This note points out that the heading of amendatory instruction no. 16 at 63 FR 33574, June 19, 1998, referred to a non-existent § 66.19-15; the heading should have read “§ 66.10-15 Aids to navigation.” This NPRM serves to document that error and eliminate the need for maintaining this distracting note in the CFR.

Aids to Navigation on Artificial Islands and Fixed Structures

Throughout 33 CFR part 67, we propose to replace the term “fog signals” with “sound signals” to reflect current usage. These signals alert operators to many environmental conditions, not just fog.

General requirements. We propose to make §§ 67.01-10, 67.01-15, 67.01-20, and 67.05-1 gender-neutral. In addition, we proposed to revise the first three of these sections to clarify the roles of agency personnel.

Classification of structures. As part of our proposed clarification of § 67.01-15, classification of structures, we plan to consolidate common language repeated in six district regulations in subpart 67.50 into this one section applicable to all of part 67. By moving this commonly-shared classification of structures language to § 67.01-15, we will be able to delete this repetitive language from §§ 67.50-5, 67.50-15, 67.50-20, 67.50-30, 67.50-45, and 67.50-50.

Lights and signals on attendant vessels. We propose to revise § 67.15-1 by correcting a U.S. Code citation and adding new authority references.

Spoil Banks, artificial islands, and dredged channels marking requirements. We propose to revise § 67.15-10(b) to establish that the District Commander would both review applications and issue permits.

Class A and B requirements. We propose to make the language in §§ 67.20-10 and 67.25-10 gender-neutral and to change the term “fog signal” to “sound signal”.

Obstruction lights. We propose to revise § 67.30-5(a) to replace an old address with a current one.

Fog Signals. We propose to revise § 67.30-10, including its heading, to change the term “fog signal” to “sound signal”.

Notification to District Commander. We propose to make the language in § 67.40-1 gender-neutral. We also propose to allow those constructing structures an additional means of notifying the District Commander that construction has commenced. We currently require notice by telegram. We propose to add the option of notification via overnight mail.

Notification waivers. We propose to make the language in § 67.40-5 gender-neutral.

Charges for marking structures invoiced to owner. We propose to revise § 67.40-20 to change the term “fog signal” to “sound signal”.

Marine Information

Local Notice to Mariners. We propose to add a note to § 72.01-5 to inform the reader of a Web address where an electronic version of “Local Notice to Mariners” can be located.

Notice to Mariners. We propose to add a Web address note to § 72.01-10 to inform the reader where an electronic version of “Notice to Mariners” can be located.

Free distribution of Light List. We propose to add a note to § 72.05-10 to inform the reader of a Web address where an electronic version of Coast Guard Light List data may be obtained.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Cost of Rule. The proposed rule would impose no costs either on owners and operators of aids to navigation or on owners and operators of vessels on waters subject to the jurisdiction of the United States. Some owners and operators, however, may need to update contact information in their files, which is a normal business practice and therefore the cost is negligible.

Benefits of the Rule. The proposed rule would update various technical references to incorporate improvements in technology and practices. The rule would also rewrite some sections to make them easier to understand and to reflect gender-neutral language. We expect that this proposed rule would improve operational efficiency and boater's safety.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000. This proposed rule would update technical information to reflect current practices and to rewrite some sections for clarity.

Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please consult Dan Andrusiak, Program Management Division, Office of Aids to Navigation, Coast Guard, telephone 202-267-0327 (email: dandrusiak@comdt.uscg.mil).

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal government and Indian tribes, or on the distribution of power and responsibilities between the Federal government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded under figure 2-1, paragraph (34)(a), of Commandant Instruction M16475.1D, this rule is categorically excluded from further environmental documentation. A “Categorical Exclusion Determination” is available in the docket where indicated under ADDRESSES.

List of Subjects

33 CFR Part 62

Navigation (water).

33 CFR Part 66

Intergovernmental relations, Navigation (water), Reporting and recordkeeping requirements.

33 CFR Part 67

Continental shelf, Navigation (water), Reporting and recordkeeping requirements.

33 CFR Part 72

Government publications, Navigation (water).

For the reasons discussed in the preamble, the Coast Guard proposes to amend 33 CFR parts 62, 66, 67, and 72 as follows:

PART 62—UNITED STATES AIDS TO NAVIGATION SYSTEM

1. The authority citation for part 62 continues to read as follows:

Authority: 14 U.S.C. 85; 33 U.S.C. 1233; 43 U.S.C. 1333; Department of Homeland Security Delegation No. 0170.

§ 62.39 [Removed]

2. Remove § 62.39.

§§ 62.55-62.61 (Subpart C) [Removed and Reserved]

3. Remove and reserve subpart C, consisting of §§ 62.55 through 62.61.

§ 62.65 [Amended]

4. In § 62.65, in paragraph (c)(2), remove the last sentence.

PART 66—PRIVATE AIDS TO NAVIGATION

5. The authority citation for part 66 continues to read as follows:

Authority: 14 U.S.C. 83, 85; 43 U.S.C. 1333; Pub. L. 107-296, 116 Stat. 2135; Department of Homeland Security Delegation No. 0170.

§ 66.01-5 [Amended]

6. In § 66.01-5(g), remove the word “fog,” and add in its place, the word “sound.”

§ 66.05-10 [Amended]

7. In § 66.05-10—

(a) In paragraph (c), wherever the word “his” appears, remove it; and

(b) In paragraph (e), in the first sentence, add the words “or her” immediately after the word “his”, and add the word “or her” immediately after the words “by him.”

§ 66.06-25 [Amended]

8. Amend § 66.05-25 to read as follows:

§ 66.05-25 Change and modification of State aids to navigation.

Wherever a State Administrator determines the need for change in State aids to navigation, he or she must inform the District Commander of the nature and extent of the changes, as soon as possible, but not less than 30 days in advance of making the changes.

§ 66.05-30 [Amended]

9. In § 66.05-30 revise paragraph (a) to read as set forth below.

§ 66.05-30 Notice to Mariners.

(a) To improve public safety, the District Commander may publish information concerning State aids to navigation, including regulatory markers, in the Coast Guard Local Notices to Mariners.

* * * * *

§ 66.05-100 [Amended]

10. In § 66.05-100, in paragraph (e), remove the words “Each navigable water” and add, in their place, the words “Navigable waters.”

§ 66.10-15 [Amended]

11. In § 66.10-15—

a. In paragraphs (b) and (c), in the last sentence, remove the word “he” and add, in its place, the words “the user”,

b. In paragraphs (e)(1), (e)(2) and (e)(3), remove the word “he” and add, in its place, the words “the operator”.

PART 67—AIDS TO NAVIGATION ON ARTIFICIAL ISLANDS AND FIXED STRUCTURES

12. The authority citation for part 67 continues to read as follows:

Authority: 14 U.S.C. 85, 633; 43 U.S.C. 1333; Department of Homeland Security Delegation No. 0170.

PART 67—[AMENDED]

13. In part 67, remove the words “fog signal” and “fog signals” and add, in their place, respectively, the words “sound signal” and “sound signals” in the following places:

a. Section 67.01-1 (a);

b. Section 67.01-5 (e) and (f), including the section heading for (f);

c. Subpart 67.10, subpart heading;

d. Sections 67.10-1 introductory text;

e. Section 67.10-5 introductory text;

f. Section 67.10-10 (a) introductory text, (a)(3) and (b);

g. Section 67.10-15, section heading, paragraphs (a) introductory text, (a)(1), (a)(2), and (b);

h. Section 67.10-20, section heading, paragraphs (a) introductory text, and (a)(3);

i. Section 67.10-25 introductory text and (a)(2);

j. Section 67.10-30;

k. Section 67.10-35(a) and (b);

l. Section 67.10-40, section heading and text;

m. Section 67.20-10, section heading, and paragraphs (a)(1), (a)(2) and (b);

n. Section 67.25-10, section heading, paragraphs (a)(1), (a)(2), (b) introductory text, (b)(2), and (c)(1);

o. Section 67.30-10, section heading, paragraphs (a) introductory text, (b), (c), (d) introductory text and (d)(2); q

p. Section 67.35-1(b);

q. Section 67.35-5(b);

r. Section 67.40-1(a);

s. Section 67.40-5(b);

t. Section 67.40-20; and

u. Section 67.50-25(f).

§ 67.01-10 [Amended]

14. Amend § 67.01-10 to read as follows:

§ 67.01-10 Delegation of functions.

The Coast Guard District Commander may delegate the authority for performing inspections, enforcement, and administration of regulations to any civilian or military position in the Coast Guard.

§ 67.01-15 [Amended]

15. Amend § 67.01-15 to read as follows:

§ 67.01-15 Classification of structures.

(a) When will structures be assigned to a Class? The District Commander will assign structures to Class A, B, or C as part of processing an application for a permit to establish and operate lights and sound signals.

(b) In general, where will the different classes of structures be located? Specific criteria in paragraph (c) of this section may create exceptions, but in general structures the farthest from shore are likely to be assigned to Class A and required to have obstruction lights and sound signals that can be detected from the farthest distance. Structures closest to shore are likely to be assigned to Class C and, while subject to requirements to ensure that they are also detectable from a safe distance away, will be required to have the least powerful obstruction lights or sound signals. The location and standards for Class B structures will generally be in between Class A and C structures.

(c) What criteria will be used to classify structures? When assigning a structure to a class, the District Commander will take into consideration whether a line of demarcation has been prescribed, and matters concerning, but not necessarily limited to, the dimensions of the structure and the depth of water in which it is located, the proximity of the structure to vessel routes, the nature and amount of vessel traffic, and the effect of background lighting.

(1) If a line of demarcation has been prescribed, the District Commander will assign those structures seaward of the line of demarcation to Class A. He or she will assign all structures shoreward of the line of demarcation to either Class B or Class C, unless the District Commander determines under § 67.05-25 that the structure should be assigned to Class A because of the structure's proximity to a navigable channel, fairway or line of demarcation.

(2) If a line of demarcation has not been prescribed, the District Commander will assign a structure to Class A, B, or C as he or she deems appropriate.

16. Amend § 67.01-20 to read as follows:

§ 67.01-20 Prescribing lines of demarcation.

The District Commander sends recommendations for establishing or changing lines of demarcation to the Commandant. For the purposes of this part, when the Commandant approves of additions to or changes in prescribed lines of demarcation, such additions or changes will be published in the Federal Register and will become effective on the date specified in that publication.

§ 67.05-1 [Amended]

17. In § 67.05-1(f), immediately after the words, “the angle of the approach, until”, remove the word “he”, and add, in its place, the words, “the mariner”.

§ 67.10-10 [Amended]

18. In addition to amendments set forth in the nomenclature instruction above, in § 67.10-10, remove the third word (“fog”) in paragraph (a)(3).

§ 67.15-1 [Amended]

19. Amend § 67.15-1 to read as follows:

§ 67.15-1 Lights and signals on attendant vessels.

The requirements prescribed by this part apply to structures. The barges, vessels, and other miscellaneous floating plants in attendance must display lights and signals under the International Navigational Rules Act of 1977 (33 U.S.C. 1601-1608) that adopted the International Regulations for Preventing Collisions at Sea, 1972 (72 COLREGS), or the Inland Navigational Rules Act of 1980 (33 U.S.C. 2001-2038). When vessels are fixed to or submerged onto the seabed, however, they become structures as described in § 67.01-5.

§ 67.15-10 [Amended]

20. Amend § 67.15-10(b) to read as follows:

§ 67.15-10 Spoil banks, artificial islands, and dredged channels.

* * * * *

(b) To receive a permit to establish and maintain a private aid to navigation for the purposes described in paragraph (a) of this section, submit your application to the District Commander. The District Commander will review all applications and issue all permits.

21. In addition to amendments set forth in the nomenclature instruction above, in § 67.20-10, in paragraph (b), add the words “or she” immediately after the words “of this section, if he”.

22. In addition to amendments set forth in the nomenclature instruction above, in § 67.25-10, in the introductory text of paragraph (c), add the words “or she” immediately after the words “of this section, if he”.

§ 67.30-5 [Amended]

23. In § 67.30-5, in paragraph (a), remove the address “Naval Supply Depot, 5801 Tabor Avenue, Philadelphia, Pa. 19120.” and add, in its place, the following address: “Document Automation and Production Service, 700 Robbins Avenue, Building 4, Section D, Philadelphia, PA 19111-5091.”

§ 67.40-1 [Amended]

24. In addition to amendments set forth in the nomenclature instruction above, in § 67.40-1(a), remove the second sentence, and add, in its place, the two following sentences: “Persons constructing structures must notify the District Commander by either telegram or overnight mail on the day they begin construction. Within this notice, they must inform him or her of the lights and sound signals they will use during construction.”

§ 67.40-5 [Amended]

25. In addition to amendments set forth in the nomenclature instruction above, in § 67.40-5—

a. In paragraph (a), add the words “or her” immediately after the words “whenever, in his”, and

b. In paragraph (b), add the words “or she” immediately after the words “marine navigation, he” and add the words “or her” immediately after the words “revoke or revise his”.

26. In §§ 67.50-5 (b), 67.50-15 (b), 67.50-20 (b), 67.50-30 (b), 67.50-35 (b), 67.50-45 (b), and 67.50-50 (b), remove the sentences: “The District Commander shall assign structures to classes as he deems appropriate at the time of application for a permit to establish and operate lights and fog signals. In so doing, he shall take into consideration matters concerning, but not necessarily limited to, the dimensions of the structure and the depth of water in which it is located; the proximity of the structure to vessel routes; the nature and amount of vessel traffic; and the effect of background lighting.”

CHAPTER I—COAST GUARD, DEPARTMENT OF HOMELAND SECURITY

PART 72—MARINE INFORMATION

27. The authority citation for part 72 continues to read as follows:

Authority: 14 U.S.C. 85, 633; 43 U.S.C. 1333; Department of Homeland Security Delegation No. 0170.

§ 72.01-5 [Amended]

28. In § 72.01-5, add a note at the end of the section that reads as follows:

§ 72.01-5 Local Notice to Mariners.

* * * * *

Note to § 72.01-5: You may also access Local Notice to Mariners free of charge on the Internet from the Coast Guard Navigation website (http://www.navcen.uscg.gov/); look for “Local Notice to Mariners”.

§ 72.01-10 [Amended]

29. In § 72.01-10, add a note at the end of the section that reads as follows:

§ 72.01-10 Notice to Mariners.

* * * * *

Note to § 72.01-10: You may also access Notice to Mariners through the National Imagery and Mapping Agency website (http://pollux.nss.nima.mil); look for “U.S. Notice to Mariners”.

30. In § 72.05-10, add a note at the end of the section that reads as follows:

§ 72.05-10 Free Distribution.

* * * * *

Note to § 72.05-10: You may also access Coast Guard Light List data through the following National Imagery and Mapping Agency Web site (http://pollux.nss.nima.mil/pubs/USCGLL/pubs_j_uscgll_list.)

Dated: May 5, 2003.
David S. Belz,
Rear Admiral, U.S. Coast Guard, Assistant Commandant for Operations.

[FR Doc. 03-11987 Filed 5-13-03; 8:45 am]

BILLING CODE 4910-15-P